DEPARTMENT OF LABOR

Occupational Safety and Health Administration

Susan Harwood Training Grant Program, FY 2020

AGENCY: Occupational Safety and Health Administration (OSHA), Department of Labor.

ACTION: Notice of availability of funds and funding opportunity announcements (FOA) for Susan Harwood Training Grant Program grants.

SUMMARY: This notice announces availability of approximately $11.5 million for Susan Harwood Training Grant Program grants. Three separate funding opportunity announcements are available for Targeted Topic Training grants, Training and Educational Materials Development grants, and new Capacity Building grants (Funding Opportunity Number SHTG-FY-20-03 will cover two types of Capacity Building grants: (1) Capacity Building Pilot and (2) Capacity Building Developmental grants).

DATES: Grant applications for Susan Harwood Training Program grants must be received electronically by the Grants.gov system no later than 11:59 p.m., ET, on July 20, 2020.

ADDRESSES: The complete Susan Harwood Training Grant Program funding opportunity announcements and all information needed to apply are available at the Grants.gov website, https://www.grants.gov/.

FOR FURTHER INFORMATION CONTACT: Questions regarding the funding opportunity announcements should be emailed to Donna Robertson, Harwood Grants Coordinator, at HarwoodGrants@dol.gov or by telephone at 847-725-7805. Personnel will not be available to answer questions after 5:00 p.m., ET. To obtain further information on the Susan Harwood Training Grant Program, visit the OSHA website at https://www.osha.gov/harwoodgrants. Questions regarding Grants.gov should be emailed to Support@grants.gov or directed to Applicant Support toll free at 1-800-518-4726. Applicant Support is available 24 hours a day, 7 days a week except Federal holidays.

SUPPLEMENTARY INFORMATION:

Funding Opportunity Number: SHTG-FY-20-01 (Targeted Topic Training grants).

Funding Opportunity Number: SHTG-FY-20-02 (Training and Educational Materials Development grants).

Funding Opportunity Number: SHTG-FY-20-03 (Capacity Building grants).

Catalog of Federal Domestic Assistance Number: 17.502.

Authority and Signature

Loren Sweatt, Principal Deputy Assistant Secretary of Labor for Occupational Safety and Health Administration, directed the preparation of this notice. The authority for this notice is Section 21 of the Occupational Safety and Health Act of 1970, (29 U.S.C. 670), Public Law 113-235, and Secretary of Labor's Order No. 1-2012 (77 FR 3912).

Signed at Washington, DC.
Loren Sweatt,
Principal Deputy Assistant Secretary of Labor, Occupational Safety and Health Administration.

[FR Doc. 2020-10726 Filed 5-18-20; 8:45 am]

BILLING CODE 4510-26-P